DEPARTMENT OF LABOR

Employment and Training Administration

[TA-W-63,710]

Citgo Lube and Wax Facility, Lake Charles, LA; Notice of Termination of Investigation

Pursuant to Section 221 of the Trade Act of 1974, as amended, an investigation was initiated on July 18, 2008 in response to a petition filed by a state workforce official on behalf of workers of Citgo Lube and Wax Facility, Lake Charles, Louisiana.

The petitioner has requested that the petition be withdrawn. Consequently, the investigation has been terminated, since further investigation would serve no purpose.

Signed at Washington, DC, this 13th day of August, 2008.
Elliott S. Kushner,
Certifying Officer, Division of Trade Adjustment Assistance.

[FR Doc. E8-19409 Filed 8-20-08; 8:45 am]

BILLING CODE 4510-FN-P